DEPARTMENT OF TRANSPORTATION

Federal Aviation Administration

14 CFR Part 25

[Docket No. NM417; Special Conditions No. 25-392-SC]

Special Conditions: Model C-27J Airplane; Class E Cargo Compartment Lavatory

AGENCY: Federal Aviation Administration (FAA), DOT.

ACTION: Final special conditions.

SUMMARY: These special conditions are issued for the Alenia Model C-27J airplane. This airplane has novel or unusual design features when compared to the state of technology described in the airworthiness standards for transport-category airplanes. These design features include a lavatory in the Class E cargo compartment. The applicable airworthiness regulations do not contain adequate or appropriate safety standards for these design features. These special conditions contain the additional safety standards that the Administrator considers necessary to establish a level of safety equivalent to that established by the existing airworthiness standards. The FAA has issued additional special conditions for other novel or unusual design features of the C-27J.

DATES: Effective Date: January 22, 2010.

FOR FURTHER INFORMATION CONTACT: Tom Groves, FAA, International Branch, ANM-116, Transport Airplane Directorate, Aircraft Certification Service, 1601 Lind Avenue, SW., Renton, Washington 98057-3356; telephone (425) 227-1503, facsimile (425) 227-1149.

SUPPLEMENTARY INFORMATION:

Background

On March 27, 2006, the European Aviation Safety Agency (EASA) forwarded to the FAA an application from Alenia Aeronautica of Torino, Italy, for U.S. type certification of a twin-engine, commercial transport designated as the Model C-27J. The C-27J is a twin-turbopropeller, cargo-transport aircraft with a maximum takeoff weight of 30,500 kilograms.

Type Certification Basis

Under the provisions of § 21.17 of Title 14, Code of Federal Regulations (14 CFR), and the bilateral agreement between the U.S. and Italy, Alenia Aeronautica must show that the C-27J meets the applicable provisions of 14 CFR part 25, as amended by Amendments 25-1 through 25-87. Alenia also elects to comply with Amendment 25-122, effective September 5, 2007, for 14 CFR 25.1317.

If the Administrator finds that existing airworthiness regulations do not adequately or appropriately address safety standards for the C-27J due to a novel or unusual design feature, the FAA prescribes special conditions under provisions of 14 CFR 21.16.

In addition to the applicable airworthiness regulations and special conditions, the C-27J must comply with the fuel-vent and exhaust-emission requirements of 14 CFR part 34 and the noise-certification requirements of 14 CFR part 36, and the FAA must issue a finding of regulatory adequacy under § 611 of Public Law 92-574, the “Noise Control Act of 1972.”

The FAA issues special conditions, as defined in 14 CFR 11.19, in accordance with § 11.38, and they become part of the type-certification basis under § 21.17(a)(2).

Special conditions are initially applicable to the model for which they are issued. Should the type certificate for that model be amended later to include any other model that incorporates the same or similar novel or unusual design feature, the special conditions also apply to the other model under § 21.101.

Novel or Unusual Design Features

The C-27J incorporates a lavatory into the Class E cargo compartment, which is considered a novel or unusual design feature in a cargo compartment. In developing the airworthiness requirements for cargo compartments, the FAA did not envision that a lavatory would be installed inside a Class E cargo compartment. Lavatories, including the one to be installed in the C-27J, typically contain electrical systems, which could serve as ignition sources for a fire; and an oxygen supply system, which could intensify the growth and size of a fire. Therefore, a means must be provided to disconnect or otherwise remove these two factors, as potentially contributing to a fire, in the event smoke or fire is detected in the cargo compartment and lavatory.

The existing airworthiness regulations do not adequately or appropriately address safety standards for these design features. These special conditions for the C-27J contain the additional safety standards that the Administrator considers necessary to establish a level of safety equivalent to that established by the existing airworthiness standards.

Discussion

Specific regulations governing Class E cargo compartments:

(a) Section 25.855, the material-standards and design considerations for cargo-compartment interiors; the statement that each cargo compartment must meet one of the Class requirements of § 25.857; and the flight testing which must be conducted for certification.

(b) Section 25.857, the standards for the various classes of transport-category airplane-cargo compartments.

(c) Section 25.858, design and certification requirements for cargo- or baggage-compartment fire- or smoke-detection systems, and a standard that fire be detected and indicated to the crew less than one minute after inception.

Specific regulations governing lavatory installations, regardless of location:

(d) Section 25.783, requirements to preclude anyone from becoming trapped inside the lavatory.

(e) Section 25.791, lavatory placarding requirements.

(f) Section 25.853, interior material-test standards, smoking-prohibition requirements, ashtray requirements, and waste-receptacle design-and-material standards.

(g) Section 25.854, lavatory smoke-detector and fire-extinguisher requirements.

In developing the airworthiness requirements for cargo compartments, the FAA did not envision that a lavatory would be installed in a Class E cargo compartment. Therefore, special conditions must be established to ensure that means are available to shut off the electrical system in the lavatory, and the oxygen-supply system in the lavatory, in the event of a smoke-detector alarm in the cargo compartment or lavatory.

Discussion of Comments

Notice of proposed special conditions no. 25-09-12-SC for the Alenia Model C-27J airplanes was published in the Federal Register on October 23, 2009. No comments were received, and the special conditions are adopted as proposed.

Applicability

As discussed above, these special conditions are applicable to the C-27J. Should Alenia apply at a later date for a change to the type certificate to include another model incorporating the same or similar novel or unusual design features, these special conditions apply to that model as well under § 21.101.

Under standard practice, the effective date of final special conditions would be 30 days after the date of publication in the Federal Register; however, as the certification date for the Alenia Model C-27J airplane is imminent, the FAA finds that good cause exists to make these special conditions effective upon issuance.

Conclusion

This action affects only certain novel or unusual design features of the Alenia C-27J. It is not a rule of general applicability, and it affects only the applicant that applied to the FAA for approval of these features on the airplane.

List of Subjects in 14 CFR Part 25

Aircraft, Aviation safety, Reporting and recordkeeping requirements.

The authority citation for these special conditions is as follows:

Authority: 49 U.S.C. 106(g), 40113, 44701, 44702, 44704.

The Special Conditions

Accordingly, the Administrator of the Federal Aviation Administration (FAA) proposes the following special conditions as part of the type-certification basis for the C-27J.

1. Control of Electrical Power to the Lavatory Located in the Class E Cargo Compartment

A means must be provided to shut off electrical power to the lavatory should smoke or fire be detected anywhere in the Class E cargo compartment, including in the lavatory. Two types of shut-off systems meet this requirement:

• A manual system, with an airplane flight manual (AFM) procedure to instruct the flight crew on where and how to shut off the power, or

• An automatic system that shuts off power to the lavatory following a lavatory or cargo-compartment smoke-detector alarm.

2. Control of the Oxygen-Delivery-System Flow to the Lavatory and Cargo Compartment

A means must be provided to shut off oxygen flow to the lavatory should smoke or fire be detected anywhere in the Class E cargo compartment, including in the lavatory. Two types of shut-off systems meet this requirement:

• A manual system, with an AFM procedure to instruct the flight crew on where and how to shut off the oxygen flow, or

• An automatic system that shuts off oxygen flow to the lavatory following a lavatory or cargo-compartment smoke-detector alarm.

Issued in Renton, Washington, on January 22, 2010.
Ali Bahrami,
Manager, Transport Airplane Directorate, Aircraft Certification Service.

[FR Doc. 2010-2680 Filed 2-5-10; 8:45 am]

BILLING CODE 4910-13-P